DEPARTMENT OF THE INTERIOR

Fish and Wildlife Service

[FWS-HQ-FAC-2015-N188; FXFR13360900000-156-FF09F14000]

Aquatic Nuisance Species Task Force Meeting

AGENCY: Fish and Wildlife Service, Interior.

ACTION: Notice of meeting.

SUMMARY: We, the U.S. Fish and Wildlife Service, announce a public meeting of the Aquatic Nuisance Species (ANS) Task Force, which consists of 13 Federal and 14 ex-officio members. The ANS Task Force's purpose is to develop and implement a program for U.S. waters to prevent introduction and dispersal of aquatic invasive species (AIS); to monitor, control, and study such species; and to disseminate related information.

DATES: The ANS Task Force will meet from 8 a.m. to 5 p.m. on Wednesday, November 4, and Thursday, November 5, 2015. For security purposes, signup for the meeting is required. For more information, contact the ANS Task Force Executive Secretary (see FOR FURTHER INFORMATION CONTACT).

ADDRESSES: The ANS Task Force meeting will take place at the National Oceanic and Atmospheric Administration, Building 3 (SSMC3), Room 4527, 1315 East-West Highway, Silver Spring, MD 20910 (301-713-0174).

FOR FURTHER INFORMATION CONTACT: Donald R. MacLean, Acting Executive Secretary, ANS Task Force, by telephone at (703) 358-2108, or by email at don_maclean@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended), and is composed of 13 Federal and 13 ex-officio members, and co-chaired by the U.S. Fish and Wildlife Service and the National Oceanic and Atmospheric Administration. The ANS Task Force provides advice on AIS infesting waters of the United States and other nations, among other duties, as specified in the Act.

Meeting Agenda

• Fish passage needs and AIS threats.

• ANSTF accomplishment tracking.

• Special session on boating industry partnerships, including discussions on the “Building Consensus” effort and on boat design and construction in consideration of aquatic invasive species.

• Approval of both the North Carolina Aquatic Nuisance Species Management Plan and the revised New York State Aquatic Invasive Species Management Plan.

• Special session on economics, including discussions on the USFWS “National Survey for Hunting and Fishing, and Lionfish Modeling and Economics”.

• Special session on communications, including discussion on the new Communication/Education/Outreach Committee, and updates on the Stop Aquatic Hitchhikers! campaign and the revitalization of the Habitattitude campaign.

• Updates on numerous other ANSTF efforts, including:

○ Addressing AIS transport at federally managed water bodies.

○ ANSTF Involvement with National Invasive Species Awareness Week.

○ A national early detection and rapid response framework and emergency response funding plan.

○ The Arctic Strategy and AIS.

• Task Force Member updates and updates from all the Regional Panels.

The final agenda and other related meeting information will be posted on the ANS Task Force Web site at http://anstaskforce.gov.

Public Input
If you wish to | You must contact the ANS Task Force Executive Secretary (see FOR FURTHER INFORMATION CONTACT) no later than
Register for the meeting | October 31, 2015.

Meeting Minutes

Summary minutes of the meeting will be maintained by the Executive Secretary (see FOR FURTHER INFORMATION CONTACT). The minutes will be available for public inspection within 60 days after the meeting and will be posted on the ANS Task Force Web site at http://anstaskforce.gov.

Dated: September 25, 2015.
David Hoskins,
Co-Chair, Aquatic Nuisance Species Task Force, Assistant Director for Fish and Aquatic Conservation.

[FR Doc. 2015-25115 Filed 10-1-15; 8:45 am]

BILLING CODE 4333-15-P